DEPARTMENT OF ENERGY

Federal Energy Regulatory Commission

[Project No. 2307-078]

Alaska Electric Light & Power Company; Notice of Application Accepted for Filing and Soliciting Motions To Intervene and Protests

Take notice that the following hydroelectric application has been filed with the Commission and is available for public inspection.

a. Type of Application: New Major License.

b. Project No.: 2307-078.

c. Date filed: August 31, 2016.

d. Applicant: Alaska Electric Light & Power Company.

e. Name of Project: Salmon and Annex Creek Hydroelectric Project.

f. Location: On Salmon Creek and Annex Creek in the City and Borough of Juneau, Alaska. The project occupies about 648.45 acres of federal lands located in the Tongass National Forest administered by the United States Forest Service and operates under an existing license issued in 1988.

g. Filed Pursuant to: Federal Power Act, 16 U.S.C. 791(a)-825(r).

h. Applicant Contact: Christy Yearous, Project Manager, Alaska Electric Light & Power Company, 5601 Tongsard Ct., Juneau, AK 99801-7201; (907) 780-2222.

i. FERC Contact: Suzanne Novak at (202) 502-6665, suzanne.novak@ferc.gov.

j. Deadline for filing motions to intervene and protests: 60 days from the issuance date of this notice.

The Commission strongly encourages electronic filing. Please file filing motions to intervene and protests using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2307-078.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

l. The proposed Salmon and Annex Creek Project would consist of two developments, one on Salmon Creek and one on Annex Creek.

The Salmon Creek development consists of the following existing facilities: (1) The 165-acre Salmon Creek reservoir impounded by a 648-foot-long, 168-foot-high dam, with ten 5-foot-wide spillway bays; (2) a 1,500-foot-long canal used to periodically divert water from tributary streams into Salmon Creek Reservoir; (3) a 10-foot-wide, 11-foot-high intake structure with trashracks; (4) a 3-foot-diameter conduit that conveys flows from the dam to the project valvehouse located immediately downstream; (5) a 4,290-foot-long, 3.3- to- 2-foot-diameter penstock that conveys flows from the valvehouse to the decommissioned Upper Powerhouse where it connects to a 11,030-foot-long, 3.5-foot-diameter penstock that narrows to a 2.5-foot-diameter immediately before entering the Lower Powerhouse; (6) the 57-foot-long, 44-foot-wide, 32-foot-high Lower Powerhouse, which contains a 6.9-megawatt (MW) impulse turbine; (7) an approximately 250-foot-long tailrace that flows underneath Egan Drive and empties into a pond adjacent to the Douglas Island Pink and Chum, Inc., hatchery; and (8) appurtenant facilities.

The Annex Creek development consists of the following existing facilities: (1) The 264-acre Upper Annex Lake, impounded by a 118-foot-long, 20-foot-high dam with a 57-foot-wide spillway that discharges flows in excess of those needed for generation into the 27-acre natural Lower Annex Lake via a 0.15-mile-long outlet stream; (2) a 61-foot long, 6-foot high timber saddle dam located just west of the main dam; (3) a lake tap intake on Upper Annex Lake; (4) a 1,433-foot-long power tunnel that narrows from 8 feet wide and 8 feet high at the intake to a 6.5-foot-diameter tunnel at the project valvehouse;

(5) the project valvehouse containing the penstock intake; (6) the 7,097-foot-long, 3.5-foot-diameter penstock that narrows to a 2.8-foot diameter before it bifurcates at the powerhouse to provide flows to two impulse turbine units with a total installed capacity of 3.675 MW; (7) the 67-foot-long, 48-foot-wide, 40-foot-high powerhouse; (8) a tailrace that discharges flows over a weir into Taku Inlet; (9) a 12.5-mile-long, 23-kilovolt (kV) transmission line that conveys power to the Than substation; and (10) appurtenant facilities.

The project currently operates to provide base load generation with an estimated annual output of 53.8 gigawatt-hours. No changes to project operation or facilities are proposed.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Dated: March 9, 2017.
Kimberly D. Bose,
Secretary.

[FR Doc. 2017-05203 Filed 3-15-17; 8:45 am]

BILLING CODE 6717-01-P